DEPARTMENT OF TRANSPORTATION

Federal Railroad Administration

[Docket Number FRA-2013-0081]

Petition for Waiver of Compliance

In accordance with part 211 of Title 49 Code of Federal Regulations (CFR), this document provides the public notice that by a document dated November 13, 2015, the Association of American Railroads (AAR) has petitioned the Federal Railroad Administration (FRA) for a Special Approval of certain industry standards in accordance with the Federal railroad safety regulations contained at 49 CFR 231.33, Procedure for special approval of existing industry safety appliance standards, and 49 CFR 231.35, Procedure for modification of an approved industry safety appliance standard for new railcar construction. FRA assigned the petition Docket Number FRA-2013-0081.

AAR, on behalf of itself and its member railroads, submitted a petition for Special Approval of existing industry safety appliance standards contained in 49 CFR part 231, Railroad Safety Appliance Standards, and minor edits to AAR Standard S-2044 appendices that have been previously approved by FRA. AAR is requesting approval of the standards and specifications delineated in AAR Standard S-2044, Appendices D1, Safety Appliances for Flatcars with Full Decks; F3, Safety Appliances for Cars with Recessed Car Body Ends; and H1, Safety Appliances for Enclosed Vehicle-Carrying Cars and Vehicle-Carrying Superstructures Applied to Flatcars. AAR Standard S-2044 and its appendices have been developed to serve as requirements for safety appliance arrangements. The revised standard and its appendices are to be applied to new railroad freight cars if approved by FRA.

AAR Standard S-2044 was established by the AAR Safety Appliance Task Force (Task Force), which was created by AAR's Equipment Engineering Committee (EEC) to develop industry standards for safety appliance arrangements on modern railcar types not explicitly covered by 49 CFR part 231. The Task Force consists of representatives from Class I railroads, labor unions, car builders, private car owners, and shippers, along with ergonomics experts and government representatives from FRA and Transport Canada, who participate as nonvoting members. The Task Force drafted a base safety appliance standard for all car types, plus industry safety appliance standards for specific car types. These industry standards have been adopted by AAR's Engineering Equipment Committee and, with FRA's approval, will serve as the core criteria for safety appliance arrangements on railcars that are more specialized in design. With its petition, AAR included a deviation table for Appendix D1 that shows where the AAR standard differs from the regulatory text in 49 CFR part 231 and provides the rationale for any deviations, along with analysis showing that the AAR Standard S-2044 provides an equal or greater level of safety in each instance. In addition, the table describes the ergonomic suitability of many of the proposed arrangements in normal use, as the standards were developed by the Task Force to incorporate ergonomic design principles.

A copy of the petition, as well as any written communications concerning the petition, is available for review online at www.regulations.gov and in person at the Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 8, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC.
Robert C. Lauby,
Associate Administrator for Railroad Safety, Chief Safety Officer.

[FR Doc. 2015-32451 Filed 12-23-15; 8:45 am]

BILLING CODE 4910-06-P